DEPARTMENT OF HEALTH AND HUMAN SERVICES

Health Resources and Services Administration

Agency Information Collection Activities: Proposed Collection: Public Comment Request; Information Collection Request Title: HRSA Ryan White HIV/AIDS Program HIV Quality Measures Module, OMB No. 0906-0022—Revision

AGENCY: Health Resources and Services Administration (HRSA), Department of Health and Human Services (HHS).

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than August 4, 2025.

ADDRESSES: Submit your comments to paperwork@hrsa.gov or mail them to the HRSA Information Collection Clearance Officer, Room 14NWH04, 5600 Fishers Lane, Rockville, Maryland, 20857.

FOR FURTHER INFORMATION CONTACT: To request more information on the proposed project or to obtain a copy of the data collection plans and draft instruments, email paperwork@hrsa.gov or call Samantha Miller, the HRSA Information Collection Clearance Officer, at (301) 443-3983.

SUPPLEMENTARY INFORMATION: When submitting comments or requesting information, please include the ICR title for reference.

Information Collection Request Title: HIV Quality Measures Module OMB No. 0906-0022—Revision.

Abstract: HRSA's Ryan White HIV/AIDS Program (RWHAP) funds and coordinates with cities, states, and local clinics/community-based organizations to deliver efficient and effective HIV care, treatment, and support to low-income people with HIV. Since 1990, RWHAP has developed a comprehensive system of safety net providers who deliver high-quality direct health care and support services to over half a million people with HIV—more than 50 percent of all people with diagnosed HIV in the United States.

RWHAP Parts A, B, C and D recipients and subrecipients must follow legislative requirements for the establishment of clinical quality management programs to assess the extent to which their HIV services are consistent with the most recent HHS Clinical Treatment guidelines. In support of these requirements, HRSA created the HIV Quality Measures (HIVQM) Module as an online tool to assist recipients in meeting the clinical quality management program requirement by allowing recipients to input data for the HRSA performance measures. HRSA maintains over 40 performance measures across the following categories: (1) core, (2) all ages, (3) adolescent/adult, (4) HIV-infected children, (5) HIV-exposed children, (6) medical case management, (7) oral health, (8) AIDS drug assistance program, and (9) systems-level. The HIVQM Module also supports the requirement imposed by the Uniform Administrative Requirements, Cost Principles, and Audit Requirements for HHS Award (45 CFR 75.301) that recipients relate financial data to performance accomplishments of their Federal awards. The HIVQM Module helps recipients set goals and monitor performance measures and quality improvement projects. The use of the HIVQM Module is voluntary for RWHAP recipients but strongly encouraged.

Need and Proposed Use of the Information: The HIVQM Module supports recipients and sub-recipients in their clinical quality management programs, performance measurement, service delivery, and monitoring of client health outcomes and quality of HIV services. The HIVQM Module is accessible via the RWHAP Services Report, an existing online portal that RWHAP recipients use for required data collection of their services. Recipients may enter performance measure data into the HIVQM Module four times a year and then generate reports to assess their performance. Recipients have the option to enter data for specific populations for a subset of performance measures. Recipients may also compare their performance against other recipients in their state, region, and in the nation. Additionally, recipients can choose the performance measures they want to monitor and enter data accordingly. For recipients and sub-recipients participating in the Centers for Medicare & Medicaid Incentive Programs, such as the Medicare Promoting Interoperability Program and the Merit-based Incentive Payment System, the HIVQM Module may be used to monitor the HRSA measures that qualify and comply with the requirements to receive incentives from these programs.

Likely Respondents: RWHAP Part A, Part B, Part C, and Part D recipients and their sub-recipients.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
HIVQM Report | 2,063 | 4 | 8,252 | 1 | 8,252
Total | 2,063 |  | 8,252 |  | 8,252

HRSA specifically requests comments on: (1) the necessity and utility of the proposed information collection for the proper performance of the agency's functions; (2) the accuracy of the estimated burden; (3) ways to enhance the quality, utility, and clarity of the information to be collected; and (4) the use of automated collection techniques or other forms of information technology to minimize the information collection burden.

Maria G. Button,
Director, Executive Secretariat.

[FR Doc. 2025-10083 Filed 6-2-25; 8:45 am]

BILLING CODE 4165-15-P